EXECUTIVE OFFICE OF THE PRESIDENT

Office of National Drug Control Policy

2 CFR Part 3603

21 CFR Parts 1403, 1404, and 1405

RIN 3201-AA00

Uniform Administrative Requirements, Cost Principles, and Audit Requirements for Federal Awards

AGENCY: Office of National Drug Control Policy, Executive Office of the President.

ACTION: Final rule.

SUMMARY: The Office of National Drug Control Policy (ONDCP), Executive Office of the President, finalizes its portion of the uniform Federal assistance rule published by the Office of Management and Budget, in the Federal Register on December 19, 2014.

DATES: This rule is effective on September 23, 2015.

FOR FURTHER INFORMATION CONTACT: David A. Shull, Deputy General Counsel, Office of National Drug Control Policy, 750 17th Street NW., Washington, DC 20504. Telephone: (202) 395-6650.

SUPPLEMENTARY INFORMATION: On December 19, 2014, the Office of Information and Regulatory Affairs (OIRA) of the Office of Management and Budget, published an interim final rule that provided comprehensive modifications to the principles and requirements for Federal awards (79 FR 75871). The uniform rules were initially published as 2 CFR part 200. As a part of that rulemaking, the Office of National Drug Control Policy (ONDCP) adopted 2 CFR part 200 in a new part 3603 and removed and reserved its past rules from 21 CFR parts 1403-1405.

The ONDCP received no relevant comments in response to the rule. Therefore, 2 CFR part 3603, as described in the interim final rule, is adopted with no changes.

Regulatory Analysis

For the regulatory findings and analysis regarding this rulemaking, please refer to the analysis prepared by OIRA in the interim final rule, which is incorporated herein (79 FR at 75876).

Accordingly, the interim rule adding 2 CFR part 3603 and amending 21 CFR parts 1403, 1404, and 1405, which was published at 79 FR 75871 on December 19, 2014, is adopted as a final rule without change.

Dated: September 16, 2015.
David A. Shull,
Deputy General Counsel.

[FR Doc. 2015-24114 Filed 9-22-15; 8:45 am]

BILLING CODE 3280-F5-P